DEPARTMENT OF THE INTERIOR

National Park Service

Notice of Availability of Draft Director's Order Concerning National Park Service Policies and Procedures Governing Its Youth Programs Division

AGENCY: National Park Service, Interior.

ACTION: Notice of availability.

SUMMARY: The National Park Service (NPS) has prepared a Director's Order setting forth its policies and procedures governing the management and implementation of youth programs throughout the National Park Service. When adopted, the policies and procedures will apply to all units of the national park system.

Dates: Written comments will be accepted until June 5, 2001.

Addresses: Draft Director's Order #26 is available on the internet at http://www.nps.gov/refdesk/Dorders/index.htm. Requests for copies and written comments should be sent to William H. Jones, NPS Youth Programs Division Manager, Department of the Interior, 1849 C St. RM# 7325 NW., Washington, DC 20010.

FOR FURTHER INFORMATION CONTACT: William H. Jones at (202) 565-1079.

SUPPLEMENTARY INFORMATION: The NPS is updating its current system of internal written instructions. When these documents contain new policy or procedural requirements that may affect parties outside the NPS, they are first made available for public review and comment before being adopted. The draft order Director's Order covers topics such as the management and supervision of the Youth Conservation Corps, the Public Land Corps, Job Corps and other programs that introduce youth to employment opportunities and conservation projects in the National Park Service.

Individual respondents may request that we withhold their home address from the administrative record, which we will honor to the extent allowable by law. There also may be circumstances in which we would withhold from the record a respondent's identity, as allowable by law. If you wish us to withhold your name and/or address, you must state this prominently at the beginning of your comment.

Dated: April 20, 2001.
William H. Jones,
Program Manager, Youth Programs Division.

[FR Doc. 01-11131 Filed 5-2-01; 8:45 am]

BILLING CODE 4310-70-U